DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed collection: Application for Authority to Employ Full-Time Students at Subminimum Wages in Retail/Service Establishments or Agriculture (WH-200 and WH-202). A copy of the proposed information collection request can be obtained by contacting the office listed below in the addresses section of this Notice.

DATES: Written comments must be submitted to the office listed in the addresses section below on or before June 20, 2005.

ADDRESSES: Ms. Hazel M. Bell, U.S. Department of Labor, 200 Constitution Ave., NW., Room S-3201, Washington, DC 20210, telephone (202) 693-0418, fax (202) 693-1451, E-mail bell.hazel@dol.gov. Please use only one method of transmission for comments (mail, fax, or E-mail).

SUPPLEMENTARY INFORMATION:

I. Background

The Fair Labor Standards Act (FLSA), 29 U.S.C. 201 et seq., sections 14(b)(1) and 14(b)(2) require the Secretary of Labor to provide certificates authorizing the employment of full-time students at 85 percent of the applicable minimum wage in retail or service establishments and in agriculture, to the extent necessary to prevent curtailment of opportunities for employment. These provisions set limits on such employment as well as prescribe safeguards to protect the full-time students so employed and full-time employment opportunities of other workers. Sections 519.3, 519.4 and 519.6 of Regulations, 29 CFR Part 519, Employment of Full-Time Students at Subminimum Wages, set forth the application requirements as well as the terms and conditions for the (1) employment of full-time students at subminimum wages under certificates and (2) temporary authorization to employ such students at subminimum wages. The WH-200 and WH-202 are voluntary use forms that are prepared and signed by an authorized representative of the employer to employ full-time students at subminimum wage. This information is used to determine whether a retail or service or agricultural employer should be authorized to pay subminimum wages to full-time students pursuant to the provisions of section 14(b) of the Fair Labor Standards Act. This information collection is currently approved for use through October 31, 2005.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the approval of the extension of this information collection to grant employer requests to employ students at subminimum wages.

Type of Review: Extension.

Agency: Employment Standards Administration.

Titles: Application for Authority to Employ Full-Time Students at Subminimum Wages in Retail/Service Establishments or Agriculture.

OMB Number: 1215-0032.

Agency Numbers: WH-200 and WH-202.

Affected Public: Business or other for-profit; Farms; Individual or households; No-for-profit institutions.

Total Respondents: 240.

Total Annual Responses: 240.

Estimated Total Burden Hours: 43.

Estimated Time Per Response: 10 to 30 minutes.

Frequency: Annually.

Total Burden Cost (capital/startup): $0.

Total Burden Cost (operating/maintenance): $0.

Comments submitted in response to this notice will be summarized and/or included in the request for Office of Management and Budget approval of the information collection request; they will also become a matter of public record.

Dated: April 14, 2005.
Sue Blumenthal,
Acting Chief, Branch of Management Review and Internal Control, Division of Financial Management, Office of Management, Administration and Planning, Employment Standards Administration.

[FR Doc. 05-7891 Filed 4-19-05; 8:45 am]

BILLING CODE 4510-27-P